DEPARTMENT OF ENERGY

Federal Energy Regulatory Commission

Notice of Application Tendered for Filing With the Commission, and Establishing Procedural Schedule for Relicensing and a Deadline for Submission of Final Amendments

May 13, 2005.

Take notice that the following hydroelectric application has been filed with the Commission and is available for public inspection.

a. Type of Application: New Major License.

b. Project No.: 2219-020.

c. Date Filed: April 29, 2005.

d. Applicant: Garkane Energy Cooperative, Inc. (Garkane).

e. Name of Project: Boulder Creek Hydroelectic Project.

f. Location: On Boulder Creek about 6 miles north of the town of Boulder in Garfield County, Utah. About 31.74 acres are located on the Dixie National Forest.

g. Filed Pursuant to: Federal Power Act 16 U.S.C. 791(a)-825(r).

h. Applicant Contact: John Spendlove, P.E., Jones and DeMille Engineering, 1535 South 100 West, Richfield, UT 84710; (435) 896-8266.

i. FERC Contact: Dianne Rodman (202) 502-6077, E-mail: Dianne.rodman@ferc.gov.

j. Cooperating agencies: We are asking Federal, State, local, and tribal agencies with jurisdiction and/or special expertise with respect to environmental issues to cooperate with us in the preparation of the environmental document. Agencies who would like to request cooperating status should follow the instructions for filing comments described in item l below.

k. Deadline for requests for cooperating agency status: June 28, 2005.

All documents (original and eight copies) should be filed with: Magalie R. Salas, Secretary, Federal Energy Regulatory Commission, 888 First Street, NE, Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Requests for cooperating agency status may be filed electronically via the Internet in lieu of paper. The Commission strongly encourages electronic filings. See 18 CFR 385.2001(a)(1)(iii) and the instructions on the Commission's Web site (http://www.ferc.gov) under the “e-Filing” link.

l. This application is not ready for environmental analysis at this time.

m. The existing project consists of: (1) The West Fork rock-filled 20-foot-high, 30-foot-long diversion dam with ungated spillway and gates on the West Fork of Boulder Creek; (2) a buried 17,600-foot-long, 27-inch-diameter concrete conduit running from the West Fork dam to the East Fork of Boulder Creek; (3) the East Fork earth-filled 29-foot-high, 630-foot-long forebay dam with an ogee concrete spillway on the East Fork of Boulder Creek; (4) a 22,200-foot-long, 31.5 to 34-inch-diameter steel penstock running from the East Fork dam to the Boulder Plant powerhouse; (5) the seasonally-operated Peterson Plant powerhouse located about 17,000 feet below the East Fork dam with an installed capacity of 100 kilowatts (kW); (6) the Boulder Plant powerhouse located at the downstream end of the penstock with an installed capacity of 1,400 kW; (7) an afterbay re-regulating pool formed by a 12-foot-high earth-filled dam with gates and ditches; (8) a 35,000-foot-long, 7.2-kilovolt (kV) distribution and communication line from the West Fork dam to the East Fork dam and on to the Peterson Plant powerhouse; (9) a 4,725-foot-long, 12.47/7.2-kV distribution and communication line from the Peterson Plant powerhouse to the Boulder Plant substation; (10) a 100-foot-long, 2,400-volt transmission line connecting the Boulder Plant powerhouse with the Boulder Plant substation; and (11) other appurtenant structures and equipment.

Garkane proposes to reconstruct the West Fork dam to provide storage for fishery enhancement. Garkane would increase the height of the dam by 12.5 feet to a new height of 36.5 feet, resulting in a surface area of about 4.8 acres and a storage capacity of 54.2 acre-feet. Garkane would continue to operate the project in run-of-river mode.

n. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

o. Procedural schedule and final amendments: The application will be processed according to the following Hydro Licensing Schedule. Revisions to the schedule will be made as appropriate.

Issue Acceptance or Deficiency Letter: June 2005.

Request Additional Information: June 2005.

Notice Soliciting Final Terms and Conditions: September 2005.

Notice of the Availability of the EA: February 2006.

Ready for Commission's Decision on the Application: April 2006.

Final amendments to the application must be filed with the Commission no later than 30 days from the issuance date of the notice of ready for environmental analysis.

Magalie R. Salas,
Secretary.

[FR Doc. E5-2571 Filed 5-20-05; 8:45 am]

BILLING CODE 6717-01-P